NUCLEAR REGULATORY COMMISSION

[Docket No. 70-0938; NRC-2016-0152]

Massachusetts Institute of Technology, Cambridge, Massachusetts; License Renewal; Issuance

AGENCY: Nuclear Regulatory Commission.

ACTION: License renewal; issuance.

SUMMARY: The U.S. Nuclear Regulatory Commission (NRC) issued a renewal of Special Nuclear Materials (SNM) License No. SNM-986 held by the Massachusetts Institute of Technology (MIT) to possess and use SNM for education, research, and training programs. The renewed license authorizes MIT to continue to possess and use SNM for an additional 10 years from the date of issuance.

DATES: The renewed license SNM-986 was issued on December 14, 2017.

ADDRESSES: Please refer to Docket ID NRC-2016-0152 when contacting the NRC about the availability of information regarding this document. You may obtain publicly-available information related to this document using any of the following methods:

• Federal Rulemaking website: Go to http://www.regulations.gov and search for Docket ID NRC-2016-0152. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Tyrone D. Naquin, Office of Nuclear Material Safety and Safeguards, U.S. Nuclear Regulatory Commission, Washington, DC 20555-0001; telephone: 301-415-7352; email: Tyrone.Naquin@nrc.gov.

SUPPLEMENTARY INFORMATION:

I. Discussion

Pursuant to section 2.106 of title 10 of the Code of Federal Regulations (10 CFR), the NRC is providing notice of the issuance of license renewal to Material License No. SNM-986, to MIT, which authorizes MIT to possess and use SNM for education, research, and training programs at its campus in Cambridge, Massachusetts. This licensee's request for renewal of its license was made on February 24, 2016. Because the licensed material will be used for research and development and for educational purposes, renewal of SNM License No. SNM-986 is an action that is categorically excluded from a requirement to prepare an environmental assessment or environmental impact statement, pursuant to 10 CFR 51.22(c)(14)(v). A notice of receipt of the license renewal application with an opportunity to request a hearing and petition for leave to intervene was published in the Federal Register on August 8, 2016 (81 FR 52478). The NRC did not receive a request for a hearing or for a petition for leave to intervene. This license renewal complies with the standards and requirements of the Atomic Energy Act of 1954, as amended, and the NRC's rules and regulations as set forth in 10 CFR Chapter 1. Accordingly, this license renewal was issued on December 14, 2017, and is effective immediately.

The NRC prepared a safety evaluation report for the renewal of SNM-986 and concluded that the licensee can continue to operate the facility without endangering the health and safety of the public.

II. Availability of Documents

The documents identified in the following table are available to interested persons through ADAMS accession numbers as indicated.

Document | ADAMS accession No.
Massachusetts Institute of Technology Request for Renewal Application | ML16092A171
NRC Request for Additional Information | ML16257A205
MIT Response to Request for Additional Information | ML16302A017
Transmittal of MIT License Renewal (SNM-0986) | ML17086A517
Safety Evaluation Report for MIT License Renewal | ML17086A565
SNM-986 MIT Materials License | ML17086A581

Dated at Rockville, Maryland, this 11th day of January, 2018.
For the Nuclear Regulatory Commission.
Tyrone D. Naquin,
Project Manager, Fuel Manufacturing Branch, Division of Fuel Cycle Safety, Safeguards and Environmental Review, Office of Nuclear Material Safety and Safeguards.

[FR Doc. 2018-00800 Filed 1-17-18; 8:45 am]

BILLING CODE 7590-01-P